DEPARTMENT OF THE INTERIOR

National Park Service

[NPS-WASO-NRNHL-DTS#-32981; PPWOCRADI0, PCU00RP14.R50000]

National Register of Historic Places; Notification of Pending Nominations and Related Actions

AGENCY: National Park Service, Interior.

ACTION: Notice.

SUMMARY: The National Park Service is soliciting electronic comments on the significance of properties nominated before October 30, 2021, for listing or related actions in the National Register of Historic Places.

DATES: Comments should be submitted electronically by November 29, 2021.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before October 30, 2021. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

ALABAMA

Talladega County

Talladega College Historic District (Boundary Increase), 627 West Battle St., Talladega, BC100007214

MICHIGAN

Kent County

Fulton Manor, 1450 Fulton St. East, Grand Rapids, SG100007211

Macomb County

Mount Clemens Public Library, 125 Macomb Pl., Mount Clemens, SG100007210

Oakland County

Walbri Hall, 3570 Walbri Dr., Bloomfield Hills, SG100007209

Washtenaw County

Sutton, Nathan Esek and Sarah Emergene, House, 5145 Pontiac Trail, Northfield Township, SG100007208

NEW YORK

Monroe County

Lawyers Cooperative Publishing Company Complex, 52 and 28-50 Aqueduct, 40-50 East Broad, 38-46 Graves, and 11 Race Sts., Rochester, SG100007212

PENNSYLVANIA

Montgomery County

Philadelphia & Reading Railway: Lansdale Passenger Station, 80 West Main St., Lansdale, SG100007217

PUERTO RICO

Adjuntas Municipality

Foreman, Mr. & Mrs. Clark, Mountain Retreat, Bo. Portugues, Carretera 123, Km. 29.9 (Camino Foreman), Adjuntas vicinity, SG100007218

VERMONT

Windsor County

Luce Farm, (Agricultural Resources of Vermont MPS), 170 Luce Rd., Stockbridge, MP100007219

VIRGINIA

Henrico County

Sandston Historic District, Roughly bounded by Williamsburg Rd., Raines Ave., Berry St., Confederate and Jackson Aves., McClellan St., East Nine Mile Rd., and Garland Ave., Sandston, SG100007215

Additional documentation has been received for the following resource:

ALABAMA

Talladega County

Talladega College Historic District (Additional Documentation), 627 West Battle St., Talladega, AD90001316

Nominations submitted by Federal Preservation Officers:

The State Historic Preservation Officer reviewed the following nominations and responded to the Federal Preservation Officer within 45 days of receipt of the nominations and supports listing the properties in the National Register of Historic Places.

COLORADO

Larimer County

Fall River Pass Historic District, (Historic Park Landscapes in National and State Parks MPS), Fall River Pass, Rocky Mountain National Park, Estes Park vicinity, MP100007216

Fall River Pass Historic District, (Rocky Mountain National Park MPS), Fall River Pass, Rocky Mountain National Park, Estes Park vicinity, MP100007216

Fall River Pass Historic District, (National Park Service Mission 66 Era Resources MPS), Fall River Pass, Rocky Mountain National Park, Estes Park vicinity, MP100007216

DISTRICT OF COLUMBIA

District of Columbia

U.S. Capitol Gatehouses and Gateposts (Additional Documentation), Constitution Avenue NW at 7th, 15th and 17th Sts., Washington, AD73002120

Authority: Section 60.13 of 36 CFR part 60.

Dated: October 30, 2021.
Sherry A. Frear,
Chief, National Register of Historic Places/National Historic Landmarks Program.

[FR Doc. 2021-24617 Filed 11-10-21; 8:45 am]

BILLING CODE 4312-52-P